DEPARTMENT OF HOUSING AND URBAN DEVELOPMENT

[Docket No. FR-7092-N-08]

Privacy Act of 1974; System of Records

AGENCY: Public Indian Housing (PIH) Real Estate Assessment Center (REAC), HUD.

ACTION: Notice of a rescindment of a systems of records.

SUMMARY: Pursuant to the provisions of the Privacy Act of 1974, as amended, the Department of the Housing and Urban Development (HUD) is issuing a public notice of its intent to rescind the Privacy Act system of records, Housing and Urban Development—Veterans Affairs Supportive Housing System (HUD-VASH), because the project was terminated and never went into development.

DATES: Comments will be accepted on or before February 20, 2024. This proposed action will be effective immediately upon publication.

ADDRESSES: You may submit comments, identified by one of the following methods:

Federal e-Rulemaking Portal: http://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov

FOR FURTHER INFORMATION CONTACT: LaDonne White, Chief Privacy Officer, 451 Seventh Street SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The HUD-VASH SORN is being terminated because the project never went into development. Back in 2012 when this SORN was published, the intent was to create the HUD-VASH system. HUD never developed the HUD-VASH system. Records are no longer maintained by HUD and have run the record retention period. All data containing PII has been deleted.

SYSTEM NAME AND NUMBER:

HUD-VASH system does not exist; it was never created hence a system number was not created/assigned.

HISTORY:

Agency Docket Number FR-5613-N-03, 77 FR 26029 (June 01, 2012).

Ladonne White,
Chief Privacy Officer, Office of Administration.

[FR Doc. 2024-00996 Filed 1-18-24; 8:45 am]

BILLING CODE 4210-67-P